DEPARTMENT OF AGRICULTURE

Agricultural Marketing Service

[Number DA-03-07]

Milk for Manufacturing Purposes and Its Production and Processing: Requirements Recommended for Adoption by State Regulatory Agencies

AGENCY: Agricultural Marketing Service, USDA.

ACTION: Final notice.

SUMMARY: This document is a final notice that modifies the recommended manufacturing milk requirements (Recommended Requirements) by establishing provisions for sheep milk, modifying follow-up procedures when plant-commingled milk in storage tanks exceeds the maximum allowable bacterial estimate, and defining heat-treated cream. The notice to modify the Recommended Requirements was requested by the Dairy Division of the National Association of State Departments of Agriculture (NASDA). This document makes certain other changes to the Recommended Requirements for clarity and consistency. Also, a second notice published in error on August 18, 2005, in the Federal Register is withdrawn.

EFFECTIVE DATE: September 1, 2005.

FOR FURTHER INFORMATION CONTACT: Reginald Pasteur, Marketing Specialist, Standardization Branch, Dairy Programs, AMS, USDA, telephone (202) 720-7473 or email Reginald.Pasteur@usda.gov.

SUPPLEMENTARY INFORMATION: Under the authority of the Agricultural Marketing Act of 1946, as amended (7 U.S.C. 1621-1627), the United States Department of Agriculture maintains a set of model regulations relating to quality and sanitation requirements for the production and processing of manufacturing grade milk. These Recommended Requirements are developed by AMS and recommended for adoption and enforcement by the various States that regulate manufacturing grade milk. The purpose of the model requirements is to promote uniformity in State dairy laws and regulations relating to manufacturing grade milk.

In consultation with representatives from NASDA, State regulatory agencies, Food and Drug Administration, and dairy industry trade associations, the Department prepared the Recommended Requirements to promote uniformity in State dairy laws and regulations for manufacturing grade milk. To accommodate changes that have occurred in the dairy industry, NASDA and various State officials have from time-to-time requested USDA to update the Recommended Requirements.

During its July 2003 annual meeting, the Dairy Division of NASDA passed resolutions requesting USDA to provide provisions for sheep milk, add follow-up procedures used when plant-commingled milk in storage tanks exceeds the maximum allowable bacterial estimate, and providing a definition for heat-treated cream. AMS reviewed these resolutions and developed a draft that identified the changes associated with this request. This draft was provided to State regulatory officials and dairy trade association representatives for informal discussion prior to publication in the Federal Register.

Subsequently, a notice of proposal to change the document, “Milk for Manufacturing Purposes and Its Production and Processing Requirements Recommended for Adoption by State Regulatory Agencies” was published in the Federal Register on Thursday, April 21, 2005 (70 FR 20730). The notice of proposal to change the document provided for a 60-day comment period that ended on June 20, 2005. No comments were received. A second notice published on August 18, 2005 (70 FR 48515) is hereby withdrawn. The August 18th notice duplicates the original notice and was published in error.

Accordingly, the changes proposed in the Milk for Manufacturing Purposes and It's Production and Processing: Recommended Requirements for Adoption by State Regulatory Agencies are incorporated in the revised Recommended Requirements. The Recommended Requirements (incorporating the changes herein adopted) are available either from the above address or by accessing the information on the Internet at the following address: http://www.ams.usda.gov/dairy/manufmlk.pdf.

Authority: (7 U.S.C. 1621-1627).

Dated: August 25, 2005.
Kenneth C. Clayton,
Associate Administrator, Agricultural Marketing Service.

[FR Doc. 05-17268 Filed 8-30-05; 8:45 am]

BILLING CODE 3410-02-P